DEPARTMENT OF COMMERCE

National Oceanic and Atmospheric Administration

[RTID 0648-XA174]

Mid-Atlantic Fishery Management Council (MAFMC); Public Meeting

AGENCY: National Marine Fisheries Service (NMFS), National Oceanic and Atmospheric Administration (NOAA), Commerce.

ACTION: Notice; public meeting.

SUMMARY: The Mid-Atlantic Fishery Management Council will host a webinar meeting for all of its Advisory Panels, including the Mackerel, Squid, and Butterfish Advisory Panel; the Summer Flounder, Scup, and Black Sea Bass Advisory Panel; the Bluefish Advisory Panel; the Spiny Dogfish Advisory Panel; the Surfclam and Ocean Quahog Advisory Panel; the Tilefish Advisory Panel; the Ecosystem and Ocean Planning Advisory Panel; and the River Herring and Shad Advisory Panel.

DATES: The meeting will be held on Friday, June 5, 2020, from 9:30 a.m. until 11 a.m.

ADDRESSES: The meeting will be held via webinar, which can be accessed at: http://mafmc.adobeconnect.com/ap5june2020/. Meeting audio can be accessed by following the prompts which appear after logging into the webinar, or via telephone by dialing 1-800-832-0736 and entering room number 5068871.

Council address: Mid-Atlantic Fishery Management Council, 800 N State Street, Suite 201, Dover, DE 19901; telephone: (302) 674-2331; www.mafmc.org.

FOR FURTHER INFORMATION CONTACT: Christopher M. Moore, Ph.D., Executive Director, Mid-Atlantic Fishery Management Council, telephone: (302) 526-5255.

SUPPLEMENTARY INFORMATION: The Mid-Atlantic Fishery Management Council will host a webinar for all eight of its Advisory Panels (i.e., the Mackerel, Squid, and Butterfish Advisory Panel; the Summer Flounder, Scup, and Black Sea Bass Advisory Panel; the Bluefish Advisory Panel; the Spiny Dogfish Advisory Panel; the Surfclam and Ocean Quahog Advisory Panel; the Tilefish Advisory Panel; the Ecosystem and Ocean Planning Advisory Panel; and the River Herring and Shad Advisory Panel). The purpose of this meeting is for AP members to develop recommendations on how the fisheries they participate in could be displayed on the Mid-Atlantic Data Portal and the Northeast Ocean Data Portal. The data portals are used for a number of purposes, including planning, analysis, and outreach related to fisheries management, aquaculture, dredging, offshore energy development, and research. AP input provided during this webinar will support a joint project between the Northeast Regional Ocean Council (NROC), the Mid-Atlantic Regional Council on the Ocean (MARCO), and the Responsible Offshore Development Alliance (RODA) to update and improve the data portals. Mid-Atlantic Fishery Management Council staff will host this meeting and NROC, MARCO, and RODA staff will present and facilitate the discussion.

Special Accommodations

This meeting is physically accessible to people with disabilities. Requests for sign language interpretation or other auxiliary aid should be directed to M. Jan Saunders, (302) 526-5251, at least 5 days prior to the meeting date.

Authority: 16 U.S.C. 1801 et seq.

Dated: May 15, 2020.
Tracey L. Thompson,
Acting Deputy Director, Office of Sustainable Fisheries, National Marine Fisheries Service.

[FR Doc. 2020-10849 Filed 5-19-20; 8:45 am]

BILLING CODE 3510-22-P